DEPARTMENT OF THE INTERIOR

Bureau of Land Management

[ES-930-1310-FI; MIES 49059]

Notice of Proposed Reinstatement of Terminated Oil and Gas Lease

AGENCY: Bureau of Land Management, Interior.

ACTION: Notice of proposed reinstatement of terminated oil and gas lease.

SUMMARY: Under the provisions of Public Law 97-451, the Bureau of Land Management (BLM) received a petition for reinstatement of the oil and gas lease, MIES 49059 located in Oscoda County, Michigan. The petition was filed on time and was accompanied by all rentals due since the date the lease terminated under law.

FOR FURTHER INFORMATION CONTACT: Ann Dickerson, Land Law Examiner, at 703-440-1512, or Bureau of Land Management-Eastern States, 7450 Boston Boulevard, Springfield, Virginia 22153.

SUPPLEMENTARY INFORMATION: The lessee has agreed to the amended lease terms for rentals and royalties at rates of $5 per acre, or fraction thereof, per year and 16⅔ percent, respectively. The lessee has paid the required administrative fee and publication fee to reimburse the Department for the cost of this Federal Register notice. The lessee has met all the requirements for reinstatement of the lease as set out in Section 31(d) and (e) of the Mineral Leasing Act of 1920, as amended (30 U.S.C. 188), and the BLM is proposing to reinstate the lease listed above, effective December 1, 2005, under the original terms and conditions of the lease and the increased rental and royalty rates cited above. The BLM has not issued any valid leases affecting the lands.

Dated: October 5, 2006.
Michael D. Nedd,
State Director, Eastern States.

[FR Doc. E6-16889 Filed 10-11-06; 8:45 am]

BILLING CODE 4310-GJ-P